FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 12, 2012.

A. Federal Reserve Bank of St. Louis (Glenda Wilson, Community Affairs Officer) P.O. Box 442, St. Louis, Missouri 63166-2034:

1. Eddie D. Franklin, Columbia, Kentucky; to retain control of United Citizens Bancorp, Inc., and thereby indirectly retain control of United Citizens Bank of Southern Kentucky, both in Columbia, Kentucky.

Board of Governors of the Federal Reserve System, May 23, 2012.
Robert deV. Frierson,
Deputy Secretary of the Board.

[FR Doc. 2012-12915 Filed 5-25-12; 8:45 am]

BILLING CODE 6210-01-P